DEPARTMENT OF THE INTERIOR

National Park Service

[NPS-NCR-WHHO-13968; PPNCWHHO00, PPMPSPD1Z.YM0000]

Notice of Public Meeting and Request for Comments

AGENCY: National Park Service, Interior.

ACTION: Notice of request for public meeting and public comments on the planning of the National Christmas Tree Lighting and the subsequent 26-day event.

SUMMARY: The National Park Service is seeking public comments and suggestions on the planning of the 2013 National Christmas Tree Lighting and the subsequent 26-day event. The general plan and theme for the event is the celebration of the holiday season with the display of the traditional American symbols of Christmas.

DATES: The meeting will be held on Wednesday, November 13, 2013. Written comments will be accepted until November 20, 2013.

ADDRESSES: The meeting will be held at 9:00 a.m. to 10:00 a.m. on November 13, 2013, in Room 234 of the National Capital Region Headquarters Building, at 1100 Ohio Drive SW., Washington, DC (East Potomac Park). Written comments may be sent to the Peter Lonsway, Manager, President's Park, National Park Service, 1100 Ohio Drive SW., Washington, DC 20242. Due to delays in mail delivery, it is recommended that comments be provided by fax at (202) 208-1643 or by email to Peter_Lonsway@nps.gov.

FOR FURTHER INFORMATION CONTACT: Peter Lonsway, Manager, President's Park, National Park Service, weekdays between 7:30 a.m., and 4:00 p.m., at (202) 208-1631.

SUPPLEMENTARY INFORMATION: The National Park Service is seeking public comments and suggestions on the planning of the 2013 National Christmas Tree Lighting and the subsequent 26-day event, which opens on December 6, 2013, on the Ellipse (President's Park), south of the White House. The general plan and theme for the event is the celebration of the holiday season, where park visitors will have the opportunity to view the lighting of the National Christmas Tree, attend musical presentations, and visit the yuletide displays of the traditional and familiar American symbols of Christmas, a national holiday. As in the past, these traditional and familiar American symbols will be the National Christmas Tree, the smaller trees representing the various states, the District of Columbia and the territories, various seasonal musical presentations, and a traditional crèche which is not owned by the Federal Government.

The National Park Service will hold a meeting at 9:00 a.m. on November 13, 2013, in Room 234 of the National Capital Region Headquarters Building, at 1100 Ohio Drive SW., Washington, DC (East Potomac Park).

Persons who would like to comment at the meeting should notify the National Park Service by November 13, 2013, by calling Peter Lonsway, Manager, President's Park, National Park Service, weekdays between 7:30 a.m., and 4:00 p.m., at (202) 208-1631.

In addition public comments and suggestions on the planning of the 2013 National Christmas Tree Lighting and the subsequent 26-day event may be submitted in writing. Before including your address, phone number, email address, or other personal identifying information in your comment, be advised that your entire comment—including your personal identifying information—may be made publicly available at any time. While you can ask in your comment to withhold from public review your personal identifying information, we cannot guarantee that we will be able to do so.

Dated: November 1, 2013.
Alma Ripps,
Chief, Office of Policy.

[FR Doc. 2013-26597 Filed 11-5-13; 8:45 am]

BILLING CODE 4310-DL-P